DEPARTMENT OF LABOR

Occupational Safety and Health Administration

29 CFR Part 1915

[Docket No. S-051A]

RIN 1218-AC16

Updating National Consensus Standards in OSHA's Standard for Fire Protection in Shipyard Employment.

AGENCY: Occupational Safety and Health Administration, Department of Labor.

ACTION: Proposed rule.

SUMMARY: On September 15, 2004, the Occupational Safety and Health Administration (OSHA) issued a new fire protection final rule for shipyards that incorporated by reference 19 National Fire Protection Association (NFPA) standards. Ten of those NFPA standards had been updated by NFPA since the fire protection rule was proposed and an additional NFPA standard has been updated since the final rule was published. In today's Federal Register, OSHA is publishing a direct final rule (DFR) replacing the references to the 11 older NFPA standards in OSHA's fire protection standard for shipyards with their most recent versions.

If OSHA does not receive significant adverse comment on the DFR, the updated versions of the NFPA standards will replace their older versions in OSHA's fire protection standard for shipyards on the effective date stated in the DFR. If significant adverse comment on the updated versions is received, OSHA will withdraw the DFR and proceed with rulemaking on this proposed rule. However, if significant adverse comments are received regarding certain provisions included in the DFR, but not others, OSHA may finalize those changes that did not receive significant adverse comment, and conduct further rulemaking under the proposed rule for the changes that did receive significant adverse comment. A subsequent Federal Register document will be published to announce OSHA's action.

DATES: Comments and requests for a hearing on this proposed rule must be submitted by the following dates:

Hard copy: Your comments must be submitted (postmarked or sent) by November 16, 2006. Electronic transmission and facsimile: Your comments must be sent by November 16, 2006.

ADDRESSES: You may submit written comments to this proposed rule—identified by docket number S-051A or RIN number 1218-AC16—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery, and courier service: Submit three copies to the OSHA Docket Office, Docket No. S-051A, U.S. Department of Labor, 200 Constitution Avenue, NW., Room N-2625, Washington, DC 20210; telephone (202) 693-2350. (OSHA's TTY number is (877) 889-5627). OSHA Docket Office hours of operation are 8:15 a.m. to 4:45 p.m., EST.

FOR FURTHER INFORMATION: For general information and press inquiries, contact Kevin Ropp, Director, OSHA Office of Communications, Room N-3647, U.S. Department of Labor, 200 Constitution Avenue, NW., Washington, DC 20210; telephone: (202) 693-1999. For technical inquiries, contact Jim Maddux, Director, Office of Maritime, Directorate of Standards and Guidance, Room N-3609, OSHA, U.S. Department of Labor, 200 Constitution Avenue, NW., Washington, DC 20210; telephone: (202) 693-2086 or fax (202) 693-1663. Copies of this Federal Register notice are available from the OSHA Office of Publications, Room N-3101, U.S. Department of Labor, 200 Constitution Avenue, NW., Washington, DC 20210; telephone: (202) 693-1888. Electronic copies of this Federal Register notice, as well as news releases and other relevant documents, are available at OSHA's Web page at http://www.osha.gov.

For access to the docket to read background documents or comments received, go to: http://dockets.osha.gov. Contact the OSHA Docket Office for information about materials not available through the OSHA Web page and for assistance in using the Web page to locate docket submissions.

SUPPLEMENTARY INFORMATION:

I. Background

This proposal applies to shipyard employment. It updates NFPA standards incorporated by reference in the shipyard fire protection standard issued by OSHA on September 15, 2004 by replacing the older versions of NFPA consensus standards with the most current versions (69 FR 55668). A complete discussion of the NFPA standards, a comparison of the older standards and the newer standards, along with the economic analysis, and paperwork and state plan discussions are published in the preamble to the DFR, which is also published in the final rule section of today's Federal Register.

II. Public Participation

OSHA requests comments on all issues related to this action. OSHA also welcomes comments on the Agency's findings that there are not negative economic or other regulatory impacts of this action on the regulated community. If OSHA receives no significant adverse comment, OSHA will publish a Federal Register document confirming the effective date contained in the companion DFR published in today's Federal Register and withdrawing this proposed rule. Such confirmation may include minor stylistic or technical changes to the document. A full discussion of the nature of a significant adverse comment is contained in the companion DFR.

If OSHA receives significant adverse comment on the changes contained in the companion DFR, OSHA will withdraw the DFR and proceed with this proposed rule by addressing comments and publishing a new final rule. If a significant adverse comment is received regarding certain revisions included in the DFR, but not others, OSHA may (1) Finalize those changes that did not receive significant adverse comment, and (2) conduct further rulemaking under this proposed rule for the changes that did receive significant adverse comment.

Comments received will be posted without change to http://dockets.osha.gov, including any personal information provided. OSHA cautions you about submitting personal information such as social security numbers and birth dates.

III. List of Subjects for 29 CFR Part 1915

Fire protection, Hazardous substances, Incorporation by reference, Longshore and harbor workers, Occupational safety and health, Reporting and recordkeeping requirements, Shipyards, and Vessels.

IV. Authority and Signature

This document was prepared under the direction of Edwin G. Foulke, Jr., Assistant Secretary of Labor for Occupational Safety and Health, U.S. Department of Labor, 200 Constitution Avenue, NW., Washington, DC 20210. It is issued pursuant to sections 4, 6, and 8 of the Occupational Safety and Health Act of 1970 (29 U.S.C. 653, 655, 657), Secretary of Labor's Order 5-2002, and 29 CFR part 1911.

Signed at Washington, DC this 5th day of October, 2006.
Edwin G. Foulke, Jr.,
Assistant Secretary of Labor.

Proposed Amendments to Standards

OSHA is proposing to amend Part 1915 of Title 29 of the Code of Federal Regulations as set forth below:

PART 1915—OCCUPATIONAL SAFETY AND HEALTH STANDARDS FOR SHIPYARD EMPLOYMENT

1. The authority citation for part 1915 continues to read as follows:

Authority: Sec. 41, Longshore and Harbor Workers' Compensation Act (33 U.S.C. 941); secs. 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2002 (67 FR 65008) as applicable; 29 CFR Part 1911.

2. Amend § 1915.5 to revise paragraphs (d)(4)(i), (vi) through (x), and (xiii) through (xviii) and by removing paragraph (d)(4)(xix) to read as follows:

§ 1915.5 Incorporation by reference.

* * * * *

(d) * * *

(4) * * *

(i) NFPA 1981-2002 Standard on Open-Circuit Self-Contained Breathing Apparatus for Fire and Emergency Services, IBR approved for § 1915.505(e)(3)(v).

* * * * *

(vi) NFPA 10-2002 Standard for Portable Fire Extinguishers, IBR approved for §§ 1915.507(b)(1) and (b)(2).

(vii) NFPA 14-2003 Standard for the Installation of Standpipe and Hose Systems, IBR approved for §§ 1915.507(b)(2) and (d)(1).

(viii) NFPA 72-2002 National Fire Alarm Code, IBR approved for § 1915.507(c)(6).

(ix) NFPA 13-2002 Standard for the Installation of Sprinkler Systems, IBR approved for § 1915.507(d)(2).

(x) NFPA 750-2003 Standard on Water Mist Fire Protection Systems, IBR approved for § 1915.507(d)(2).

* * * * *

(xiii) NFPA 11-2005 Standard for Low-, Medium-, and High-Expansion Foam, IBR approved for § 1915.507(d)(3).

(xiv) NFPA 17-2002, Standard for Dry Chemical Extinguishing Systems, IBR approved for § 1915.507(d)(4).

(xv) NFPA 12-2005, Standard on Carbon Dioxide Extinguishing Systems, IBR approved for § 1915.507(d)(5).

(xvi) NFPA 12A-2004, Standard on Halon 1301 Fire Extinguishing Systems, IBR approved for § 1915.507(d)(5).

(xvii) NFPA 2001-2004, Standard on Clean Agent Fire Extinguishing Systems, IBR approved for § 1915.507(d)(5).

(xviii) NFPA 1403-2002, Standard on Live Fire Training Evolutions, IBR approved for § 1915.508(d)(8).

3. Amend § 1915.505 to revise paragraph (e)(3)(v), to read as follows:

§ 1915.505 Fire response.

* * * * *

(e) * * *

(3) * * *

(v) Provide only SCBA that meet the requirements of NFPA 1981-2002 Standard on Open-Circuit Self-Contained Breathing Apparatus for Fire and Emergency Services (incorporated by reference, see § 1915.5); and

* * * * *

4. Amend § 1915.507 to revise paragraphs (b)(1), (b)(2), (c)(6), (d)(1), (d)(2), (d)(3), and (d)(5) to read as follows:

§ 1915.507 Land-side fire protection system.

* * * * *

(b) * * *

(1) The employer must select, install, inspect, maintain, and test all portable fire extinguishers according to NFPA 10-2002 Standard for Portable Fire Extinguishers (incorporated by reference, see § 1915.5).

(2) The employer is permitted to use Class II or Class III hose systems, in accordance with NFPA 10-2002 (incorporated by reference, see § 1915.5), as portable fire extinguishers if the employer selects, installs, inspects, maintains, and tests those systems according to the specific recommendations in NFPA 14-2003 Standard for the Installation of Standpipe and Hose Systems (incorporated by reference, see § 1915.5).

(c) * * *

(6) Select, install, inspect, maintain, and test all automatic fire detection systems and emergency alarms according to NFPA 72-2002 National Fire Alarm Code (incorporated by reference, see § 1915.5)

(d) * * *

(1) Standpipe and hose systems according to NFPA 14-2003 Standard for the Installation of Standpipe and Hose Systems (incorporated by reference, see § 1915.5);

(2) Automatic sprinkler systems according to NFPA 25-2002 Standard for the Inspection, Testing, and Maintenance of Water-based Fire Protection Systems, (incorporated by reference, see § 1915.5), and either (i) NFPA 13-2002 Standard for the Installation of Sprinkler Systems (incorporated by reference, see § 1915.5), or (ii) NFPA 750-2003 Standard on Water Mist Fire Protection Systems (incorporated by reference, see § 1915.5);

(3) Fixed extinguishing systems that use water or foam as the extinguishing agent according to NFPA 15-2001 Standard for Water Spray Fixed Systems for Fire Protection (incorporated by reference, see § 1915.5) and either NFPA 11-2005 Standard for Low-, Medium-, and High-Expansion Foam (incorporated by reference, see § 1915.5);

* * * * *

(5) Fixed extinguishing systems using gas as the extinguishing agent according to NFPA 12-2005 Standard on Carbon Dioxide Extinguishing Systems (incorporated by reference, see § 1915.5); NFPA 12A-2004 Standard on Halon 1301 Fire Extinguishing Systems (incorporated by reference, see § 1915.5); and NFPA 2001-2004 Standard on Clean Agent Fire Extinguishing Systems (incorporated by reference, see § 1915.5).

[FR Doc. E6-17125 Filed 10-16-06; 8:45 am]

BILLING CODE 4510-26-P